DEPARTMENT OF COMMERCE

Foreign-Trade Zones Board

[Docket 7-2000]

Foreign-Trade Zone 94—Laredo, Texas; Application for Expansion

An application has been submitted to the Foreign-Trade Zones Board (the Board) by the City of Laredo, Texas, grantee of FTZ 94, requesting authority to expand the zone to include an additional site in Laredo, Texas. The application was submitted pursuant to the provisions of the Foreign-Trade Zones Act, as amended (19 U.S.C. 81a-81u), and the regulations of the Board (15 CFR Part 400). It was formally filed on March 3, 2000.

FTZ 94 was approved on November 22, 1983 (Board Order 235, 48 FR 53737, 11/29/83) and expanded on March 26, 1990 (Board Order 468, 55 FR 12696, 4/5/90); on December 29, 1992 (Board Order 620, 58 FR 3533, 1/11/93); and, on January 17, 1997 (Board Order 866, 62 FR 4028, 1/28/97). The zone project currently consists of five sites in the Laredo area: Site 1 (500 acres)—within the 1,600-acre city-owned Laredo International Airport Industrial Park; Site 2 (20 acres)—industrial park owned by the Texas-Mexican Railway, along Highway 359 in Webb County; Site 3 (550 acres)—within the 1,400-acre Killiam industrial area, owned by Killiam Oil Co., at 12800 Old Mines Road; Site 4 (1,500 acres)—within 7,000-acre International Commerce Center, Laredo Northwest business and residential development; and Site 5 (930 acres)—La Barranca Ranch Industrial Park, owned by Librado Pina, Inc., Interstate Highway 35, adjacent to the Union Pacific rail line, in northern Webb County.

The applicant is now requesting authority to expand the zone to include a site in Laredo: Proposed Site 6 (682 acres)—Unitec Industrial Center, Interstate Highway 35, 12 miles northwest of Laredo International Airport. The privately-owned industrial park/distribution center is served by rail and has 1.5 million square feet of existing warehouse space. No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is May 9, 2000. Rebuttal comments in response to material submitted during the foregoing period may be submitted during the subsequent 15-day period (to May 24, 2000).

A copy of the application and accompanying exhibits will be available for public inspection at each of the following locations:

Office of the Port Director, U.S. Customs Service, Lincoln Juarez Bridge, Administrative Building #2, Laredo, TX 78040.

Office of the Executive Secretary, Foreign-Trade Zones Board, U.S. Department of Commerce 14th & Pennsylvania Avenue NW., Washington, DC 20230.

Dated: March 3, 2000.
Dennis Puccinelli,
Acting Executive Secretary.

[FR Doc. 00-5939 Filed 3-9-00; 8:45 am]

BILLING CODE 3510-DS-P